DEPARTMENT OF COMMERCE

National Oceanic and Atmospheric Administration

Proposed Information Collection; Comment Request; Crab Rationalization (CR) Program: CR Cooperative Annual Report

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 11, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or patsy.bearden@noaa.gov.

SUPPLEMENTARY INFORMATION:

I. Abstract

The North Pacific Fishery Management Council requested that each CR Program cooperative, after developing and implementing the measures to stimulate acquisition of crab quota share by crew and other active participants and to stimulate equitable crew compensation, voluntarily provide an annual report summarizing the effectiveness of each measure and the estimated number of participants in each measure, supported by documentation.

II. Method of Collection

Respondents have a choice of either electronic or paper forms. Methods of submittal include email, mail, and facsimile transmission of paper forms.

III. Data

OMB Control Number: 0648-0678.

Form Number(s): None.

Type of Review: Regular submission (extension of a current information collection).

Affected Public: Business or other for-profit organizations.

Estimated Number of Respondents: 10.

Estimated Time per Response: 30 hours.

Estimated Total Annual Burden Hours: 300.

Estimated Total Annual Cost to Public: $40.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 5, 2016.
Sarah Brabson,
NOAA PRA Clearance Officer.

[FR Doc. 2016-02695 Filed 2-9-16; 8:45 am]

BILLING CODE 3510-22-P